DEPARTMENT OF HEALTH AND HUMAN SERVICES

Agency for Healthcare Research and Quality

Opportunity To Co-Sponsor Two AHRQ Research Conferences

AGENCY: Agency for Healthcare Research and Quality (AHRQ), HHS.

ACTION: Notice of opportunity to co-sponsor AHRQ conferences.

SUMMARY: AHRQ announces the opportunity for non-Federal public and private-sector entities to co-sponsor two AHRQ research conferences in the DC area: One in the fall of 2017 and one in the fall of 2019. Potential co-sponsors must have a demonstrated interest and experience in health services research, implementation, and evaluation. Potential co-sponsors must also be capable of managing the day-to-day operations associated with the conference and be willing to participate substantively in the co-sponsored activity.

DATES: To receive consideration for this opportunity, a proposal to participate as a co-sponsor must be received by AHRQ by 5 p.m. EDT no later than 30 days after the date of publication at the address listed below. Requests will meet the deadline if they are either (1) received or (2) postmarked on or before the deadline. Privately metered postmarks will not be accepted as proof of timely mailing. Proposals received after the established deadline will not be considered.

ADDRESSES: Requests for co-sponsorship should be sent to Ms. Jaime Zimmerman, Agency for Healthcare Research and Quality, 5600 Fishers Lane, Mail Stop 06E37A, Rockville, MD 20857. Requests may also be emailed to Jaime.zimmerman@ahrq.hhs.gov. Emails should be received no later than 30 days after publication.

FOR FURTHER INFORMATION CONTACT: Contact Ms. Jaime Zimmerman, Agency for Healthcare Research and Quality, 5600 Fishers Lane, Mail Stop 06E37A, Rockville, MD 20857; (301) 427-1456; jaime.zimmerman@ahrq.hhs.gov.

SUPPLEMENTARY INFORMATION:

Description

AHRQ was originally created as the Agency for Health Care Policy and Research on December 19, 1989, under the Omnibus Budget Reconciliation Act of 1989, as a Public Health Service Agency in the U.S. Department of Health and Human Services (HHS). The agency was reauthorized on December 6, 1999, by the Healthcare Research and Quality Act of 1999 and re-named the Agency for Healthcare Research and Quality.

AHRQ's mission is to produce evidence to make health care safer, higher quality, more accessible, equitable, and affordable, and to work within HHS and other partners to make sure that the evidence is understood and used.

Three areas in which AHRQ makes a difference:

• AHRQ invests in research and evidence to understand how to make health care safer and improve quality.

• AHRQ creates materials to teach and train health care systems and professionals how to catalyze improvements in care.

• AHRQ generates measures and data used to track and improve performance and to evaluate the progress of the U.S. health system.

The purpose of the conference, consistent with AHRQ's mission, is to bring together grantees, contractors, and others who produce AHRQ-supported research and products with stakeholders who can use them to achieve measurable improvements in the health care that patients receive. The conference provides additional opportunities to ensure that AHRQ-supported research delivers anticipated results. More specifically, the conference's goal is to share best practices based on AHRQ-supported research, and to demonstrate how these research findings and best practices provide solutions for the challenges facing today's health care system. The conference also offers time for interaction among grantees, contractors, and users who can implement research-based solutions to improve care.

The co-sponsors will assist with conference and agenda development, strategic messaging, coordination, financial management, and meeting logistics in conjunction with AHRQ staff. The co-sponsors can charge registration fees to recover their share of the event's costs; however, registration fees may not be set at an amount higher than necessary to recover related conference expenses.

Eligibility for Co-Sponsorship

To be eligible, a potential co-sponsor shall: (1) Have a demonstrated understanding, commitment, and experience in conducting and/or sponsoring health services research, especially as it relates to one or more of AHRQ's priority areas; (2) be knowledgeable about strategies for disseminating and implementing research findings, products, and tools and fostering changes in practice and health care policy; (3) have a track record in using a variety of methods for evaluating research impact; (4) participate substantively in the co-sponsored activity, not just provide funding or logistical support; and (5) have an organizational mission that is consistent with AHRQ and HHS.

The selected co-sponsoring organization shall furnish the necessary personnel, materials, services, and facilities to administer its responsibility for the conference. These duties will be outlined in a cosponsorship agreement with AHRQ that will set forth the details of the cosponsored activity, including the requirements that any fees collected by the co-sponsor shall be limited to the amount necessary to cover the co-sponsor's related conference expenses.

Co-Sponsorship Proposal

Each co-sponsorship proposal shall contain a description of: (1) The entity or organization's background and history, (2) its ability to satisfy the co-sponsorship criteria detailed above, and (3) its proposed involvement in the co-sponsored activity.

Evaluation Criteria

After engaging in exploratory discussions with potential co-sponsors that respond to this notice, representatives of AHRQ will select the co-sponsor or co-sponsors using the following evaluation criteria:

(1) Qualifications and capability to fulfill co-sponsorship responsibilities;

(2) Creativity related to enhancing the conference, including options for interactive sessions and ideas for improving the event based on the 2015 conference offerings;

(3) Potential for reaching and generating attendees from among key stakeholders, including Federal, State and local policymakers, health care providers, consumers and patients, purchasers and payers, and other health officials and underserved/special populations;

(4) Experience administering conferences;

(5) Past or current work specific to health services research;

(6) Personnel names, professional qualifications, and specific expertise with conference planning;

(7) Availability and description of facilities needed to participate in and support the conference planning process, including office space, information technology, and telecommunication resources;

(8) Description of financial management expertise, including demonstration of experience in developing a budget and collecting and managing monies from organizations and individuals; and

(9) Proposed plan for managing a conference with AHRQ.

Sharon B. Arnold,
Deputy Director.

[FR Doc. 2016-13918 Filed 6-10-16; 8:45 am]

BILLING CODE 4160-90-P